NATIONAL ARCHIVES AND RECORDS ADMINISTRATION

[NARA-2015-020]

Charter Renewal; State, Local, Tribal, and Private Sector Policy Advisory Committee

AGENCY: National Archives and Records Administration.

ACTION: Notice of Charter Renewal, State, Local, Tribal, and Private Sector Policy Advisory Committee.

SUMMARY: The National Archives and Records Administration (NARA) announces renewal of the State, Local, Tribal, and Private Sector (SLTPS) Policy Advisory Committee, in accordance with section 9(a)(2) of the Federal Advisory Committee Act (Pub. L. 92-463, 5 U.S.C., App.). The General Services Administration approved inclusion of the SLTPS Policy Advisory Committee in NARA's ceiling of federal advisory committees, under Executive Order 13549 and Executive Order 13652.

FOR FURTHER INFORMATION CONTACT: Patrice Little Murray, NARA's Committee Management Officer (CMO), by telephone at 301-837-2001.

SUPPLEMENTARY INFORMATION: NARA has determined that renewing the SLTPS Policy Advisory Committee is in the public interest due to the expertise and valuable advice the committee members provide on matters related to the Classified National Security Information Program for State, Local, Tribal, and Private Sector Entities.

Dated: December 16, 2014.
David S. Ferriero,
Archivist of the United States.

[FR Doc. 2014-30039 Filed 12-22-14; 8:45 am]

BILLING CODE 7515-01-P